DEPARTMENT OF EDUCATION

Applications for New Awards; Promise Neighborhoods (PN) Program

AGENCY: Office of Elementary and Secondary Education, Department of Education.

ACTION: Notice.

SUMMARY: The Department of Education (Department) is issuing a notice inviting applications for fiscal year (FY) 2024 for the PN program.

DATES:

Applications Available: June 27, 2024.

Deadline for Notice of Intent to Apply: July 29, 2024.

Date of Pre-Application Meetings: The Department will hold pre-application meetings via webinar for prospective applicants. Detailed information regarding pre-application webinars will be provided on the PN website at https://oese.ed.gov/offices/office-of-discretionary-grants-support-services/school-choice-improvement-programs/promise-neighborhoods-pn/.

Deadline for Transmittal of Application: September 10, 2024.

Deadline for Intergovernmental Review: November 12, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Rich Wilson, U.S. Department of Education, 400 Maryland Avenue SW, Room 3W101, Washington, DC 20202. Telephone: (202)453-6709. Email: PromiseNeighborhoods@ed.gov.

If you are deaf, hard of hearing, or have a speech disability and wish to access telecommunications relay services, please dial 7-1-1.

SUPPLEMENTARY INFORMATION:

Full Text of Announcement

I. Funding Opportunity Description

1. Purpose of Program: The PN program is authorized under the Elementary and Secondary Education Act of 1965, as amended (ESEA). The purpose of the PN program is to significantly improve the academic and developmental outcomes of children and youth living in the most distressed communities of the United States, including ensuring school readiness, high school graduation, and access to a community-based continuum of high-quality services. The program serves neighborhoods with high concentrations of individuals with low incomes; multiple signs of distress, which may include high rates of poverty, childhood obesity, academic challenges, and juvenile delinquency, adjudication, or incarceration; and adverse childhood experiences; and also serves schools implementing comprehensive support and improvement activities or targeted support and improvement activities under section 1111(d) of the ESEA. All strategies in the continuum of solutions must be accessible to children with disabilities and English learners.

Assistance Listing Number: 84.215N.

OMB Control Number: 1894-0006.

2. Award Information:

Type of Award: Discretionary grant.

Estimated Available Funds: $4,000,000.

Contingent upon the availability of funds and the quality of applications, we may make additional awards in FY 2025 or in subsequent years from the list of unfunded applications from this competition.

Estimated Range of Awards: $400,000 to $500,000.

Estimated Average Size of Awards: $450,000.

Maximum Award: We will not make an award exceeding $500,000 for a single budget period of 12 months. The Department plans to fully fund awards made under this notice with FY 2024 funds.

Estimated Number of Awards: 4-5.

Note: The Department is not bound by any estimates in this notice.

Project Period: Up to 24 months.

Under section 4623 of the ESEA, a grant awarded under this competition will be for a period of not more than 2 years.

3. Eligible Applicants: Under section 4622 of the ESEA, an eligible entity must be one of the following:

(a) An institution of higher education (IHE), as defined in section 102 of the Higher Education Act of 1965, as amended (HEA) (20 U.S.C. 1002);

(b) An Indian Tribe or Tribal organization, as defined in section 4 of the Indian Self-Determination and Education Assistance Act (25 U.S.C. 5304); or

(c) One or more nonprofit entities working in formal partnership with not less than one of the following entities:

(i) A high-need local educational agency (LEA).

(ii) An IHE, as defined in section 102 of the HEA (20 U.S.C. 1002).

(iii) The office of a chief elected official of a unit of local government.

(iv) An Indian Tribe or Tribal organization, as defined under section 4 of the Indian Self-Determination and Education Assistance Act (25 U.S.C. 5304).

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

4. Background: A Promise Neighborhood is a place-based, collective impact approach to improving results for children and families. The transformative vision of the Promise Neighborhoods initiative is that all children and youth growing up in Promise Neighborhoods have access to great schools and strong systems of family and community support. Promise Neighborhoods weave together people, services, and organizations to create a seamless cradle-to-career pipeline, along which community members have access to high-quality early care and education, smooth and effective transition to kindergarten, excellent K-12 schools, and pathways to achieve postsecondary and career success.

The PN program's successes in helping communities respond to the COVID-19 pandemic highlight the importance of ensuring place-based supports for children and families. When the pandemic hit, Promise Neighborhoods became an important source of funding for local governments to quickly respond to community needs and have confidence that available resources would benefit the hardest hit community members.

Promise Neighborhoods is particularly apt for addressing issues that worsened during the pandemic, such as chronic absenteeism and community violence, due to three key characteristics: (1) a strong backbone organization to support families, which can take years to build; (2) flexible funding targeted for year-round K-12 interventions; and (3) networks of partnerships that draw on the internal resources of the community, such as local organizers, trusted elders, and youth leaders, to guide services to those who need them most. Those with deep community relationships can inform practice, act nimbly, and respond to community needs as they arise. Importantly, the PN program also allows grantees to use the first two years of funding for both implementation and planning activities. Planning activities have been particularly important for organizations that have not previously had a Federal PN grant and are working to establish a foundation to implement the program.

One recent study of chronic absenteeism found that the number of public school students who are chronically absent—meaning they miss at least 10 percent of days in a school year, whether excused or unexcused—nearly doubled between the 2018-19 and 2021-22 school years,¹ from about 15 percent to around 30 percent. The greatest increase has been in kindergarten, with the rate of chronic absenteeism now as high as 40 percent in some communities.² Research suggests that children who are chronically absent for multiple years between preschool and second grade are much less likely to read at grade level by the third grade.³ As of the 2021-22 school year, over 14 million students nationwide were chronically absent, missing crucial instructional time and posing serious implications for students' overall academic success and wellbeing.⁴

¹ Dee, T. S. (2023, August 10). Higher Chronic Absenteeism Threatens Academic Recovery from the COVID-19 Pandemic. https://doi.org/10.31219/osf.io/bfg3p.

² https://edsource.org/2023/reaching-kindergarten-parents-is-key-to-addressing-dramatic-post-pandemic-rise-in-chronic-absenteeism-panel-says/696511.

³ Ehrlich, Stacy B., et al. (May 2014). Preschool Attendance in Chicago Public Schools. https://consortium.uchicago.edu/publications/preschool-attendance-chicago-public-schools-relationships-learning-outcomes-and-reasons.

⁴ See note 2.

The Biden-Harris Administration has made addressing chronic absenteeism one of the focal points of its Improving Student Achievement Agenda ⁵ and is using several strategies to help schools and communities address this issue. These efforts include: disseminating grants that can fund interventions and supports in schools; offering technical assistance to States and districts, including the Department's Student Engagement and Attendance Center,⁶ which supports States and schools in designing and implementing evidence-based strategies to improve student attendance and engagement, and the Department's National Center on Safe Supportive Learning Environments,⁷ which provides technical assistance focused on improving school climate; investing in comprehensive mental health programs for students, including through the transformational investments of the Bipartisan Safer Communities Act; ⁸ and establishing and strengthening the National Partnership for Student Success,⁹ which marshals evidence-based supports such as tutoring and mentoring to help keep students engaged and on-track.

⁵ https://www.whitehouse.gov/briefing-room/statements-releases/2024/01/17/fact-sheet-biden-harris-administration-announces-improving-student-achievement-agenda-in-2024/.

⁶ https://oese.ed.gov/student-engagement-and-attendance-technical-assistance-sea-center/.

⁷ https://safesupportivelearning.ed.gov/school-climate-improvement

⁸ https://oese.ed.gov/bipartisan-safer-communities-act/.

⁹ https://www.partnershipstudentsuccess.org/?utm_content&utm_medium=email&utm_name&utm_source=govdelivery&utm_term.

Additionally, the Promise Neighborhoods incorporates the unique insights of young people to better address their needs and circumstances. PN grantees and like-minded cross-sector initiatives have been successful in engaging children and young people in K-12, college students, recent college graduates, and young adults pursuing employment. Youth engagement is used to improve school climate, consistent attendance, college preparedness, and leadership development among older youths. Because such engagement activities directly address the youth populations they involve, they can be adapted and applied to many contexts. In this instance, program grantees are encouraged to engage young people in the planning and implementation of these two-year grants.

Promise Neighborhoods also provide a unique opportunity for communities to create a comprehensive approach to help prevent and address violence in their neighborhoods. Funds can support a broad approach that allows grantees to coordinate mental health professionals, the criminal justice system, economic or workforce development organizations, and community leaders to intervene in areas with high rates of violence. Current grantees have engaged with Parks Departments, Departments of Justice, and local community organizations to focus on creating safe public spaces such as parks and more walkable communities, improving both safety and wellness in their neighborhoods, and creating a safe passage for students to get to school. Grantees have also focused on increasing attendance and graduation rates as well as community mentoring to mitigate violence among teens.

5. Priorities: This notice includes three absolute priorities, three competitive preference priorities, and one invitational priority. Absolute Priorities 1 and 3 are from the Final Priorities, Requirements, Definitions, and Selection Criteria for this program published in the Federal Register on January 19, 2021 (86 FR 5009) (PN NFP). Absolute Priority 2 is from the Administrative Priorities for Discretionary Grant Programs published in the Federal Register on March 9, 2020 (85 FR 13640) (Administrative Priorities). Competitive Preference Priorities 1 and 3 are from the Secretary's Supplemental Priorities and Definitions for Discretionary Grants Programs published in the Federal Register on December 10, 2021 (86 FR 70612) (Supplemental Priorities). Competitive Preference Priority 2 is from the Administrative Priorities.

Absolute Priorities: For FY 2024 and any subsequent year in which we make awards from the list of unfunded applications from this competition, these priorities are absolute priorities. Under 34 CFR 75.105(c)(3), we consider only applications that meet one or more of these priorities. Absolute Priorities 1, 2, and 3 each constitute separate funding categories. The Secretary intends to award grants under each of these absolute priorities provided that applications submitted are of sufficient quality. An applicant may address no more than one absolute priority in its application. To ensure that applicants are reviewed under the absolute priority most relevant to their proposed project, applicants must clearly identify the specific absolute priority that the proposed project addresses.

These priorities are:

Absolute Priority 1—Non-Rural and Non-Tribal Communities.

To meet this priority, an applicant must propose to implement a PN strategy that serves one or more non-rural or non-Tribal communities.

Absolute Priority 2—Rural Applicants.

Under this priority, an applicant must demonstrate one or more of the following:

(a) The applicant proposes to serve an LEA that is eligible under the Small Rural School Achievement (SRSA) program or the Rural and Low-Income School (RLIS) program authorized under Title V, Part B of the ESEA.

(b) The applicant proposes to serve a community that is served by one or more LEAs with a locale code of 32, 33, 41, 42, or 43.

(c) The applicant proposes a project in which a majority of the schools served have a locale code of 32, 33, 41, 42, or 43.

(d) The applicant is an IHE with a rural campus setting, or the applicant proposes to serve a campus with a rural setting. Rural settings include any of the following: Town-Fringe, Town-Distant, Town-Remote, Rural-Fringe, Rural-Distant, Rural-Remote, as defined by the National Center for Education Statistics (NCES) College Navigator search tool.

Note: To determine whether a particular LEA is eligible for SRSA or RLIS, refer to the Department's website at https://oese.ed.gov/offices/office-of-formula-grants/rural-insular-native-achievement-programs/rural-education-achievement-program/. Applicants are encouraged to retrieve locale codes from the NCES School District search tool (https://nces.ed.gov/ccd/districtsearch/), where LEAs can be looked up individually to retrieve locale codes, and the Public School search tool (https://nces.ed.gov/ccd/schoolsearch/), where individual schools can be looked up to retrieve locale codes. Applicants are encouraged to retrieve campus settings from the NCES College Navigator search tool (https://nces.ed.gov/collegenavigator/), where IHEs can be looked up individually to determine the campus setting.

Absolute Priority 3—Tribal Communities.

To meet this priority, an applicant must propose to implement a PN strategy that serves one or more Indian Tribes (as defined in this notice).

Competitive Preference Priorities: For FY 2024 and any subsequent year in which we make awards from the list of unfunded applications from this competition, these priorities are competitive preference priorities. Under 34 CFR 75.105(c)(2)(i), we award up to an additional 15 points to an application, depending on how well the application meets one or more of these priorities; the total possible points for each competitive preference priority are noted in parentheses.

These priorities are:

Competitive Preference Priority 1—Strengthening Cross-Agency Coordination and Community Engagement to Advance Systemic Change (up to 5 points).

Projects that are designed to take a systemic evidence-based approach to improving outcomes for underserved students in coordinating efforts with Federal, State, or local agencies, or community-based organizations, that support students, to address community violence prevention and intervention.

Competitive Preference Priority 2—Applications From New Potential Grantees (0 or 5 points).

Under this priority, an applicant must demonstrate that the applicant has never received a grant, including through membership in a group application submitted in accordance with 34 CFR 75.127-75.129, under the program from which it seeks funds.

Competitive Preference Priority 3—Promoting Equity in Student Access to Educational Resources and Opportunities (up to 5 points).

Under this priority, an applicant must demonstrate that the applicant proposes a project designed to promote educational equity and adequacy in resources and opportunity for underserved students—

(1) In one or more of the following educational settings:

(i) Early learning programs.

(ii) Elementary school.

(iii) Middle school.

(iv) High school.

(v) Career and technical education programs.

(vi) Out-of-school-time settings.

(vii) Alternative schools and programs.

(viii) Juvenile justice system or correctional facilities.

(ix) Adult learning;

(2) That examines the sources of inequity and inadequacy and implements responses, and that includes establishing, expanding, or improving the engagement of underserved community members (including underserved students and families) in informing and making decisions that influence policy and practice at the school, district, or State level by elevating their voices, through their participation and their perspectives and providing them with access to opportunities for leadership (e.g., establishing partnerships between civic student government programs and parent and caregiver leadership initiatives).

Invitational Priority: For FY 2024 and any subsequent year in which we make awards from the list of unfunded applications from this competition, this priority is an invitational priority. Under 34 CFR 75.105(c)(1) we do not give an application that meets this invitational priority a competitive or absolute preference over other applications.

This priority is:

Addressing Chronic Absenteeism.

Projects designed to increase regular student attendance and engagement and reduce chronic absenteeism through evidence-based strategies such as—

(1) Developing and implementing family- and child-centered effective engagement, messaging, and communication plans with parents, families, and students;

(2) Strengthening relationships with families, including through strategies such as home visits;

(3) Using multitiered systems of support and intervention, including through strategies such as an early warning system; or

(4) Creating and sustaining positive and inclusive school climates, including those designed to build strong, trusting relationships.

6. Requirements: For FY 2024 and any subsequent year in which we make awards from the list of unfunded applications from this competition, applicants must meet the following application and program requirements from section 4624 of the ESEA and the PN NFP.

Application Requirements: The application requirements are as follows:

(a) A plan to significantly improve the academic outcomes of children living in the geographically defined area (neighborhood) that is served by the eligible entity by providing pipeline services that address the needs of children in the neighborhood, as identified by the needs analysis, and that is supported by effective practices.

(b) A description of the neighborhood the eligible entity will serve.

Note: Applicants may propose to serve multiple, non-contiguous geographically defined areas. In cases where target areas are non-contiguous, the applicant should explain its rationale for including non-contiguous areas.

(c) An applicant must demonstrate that its proposed project—

(1) Is representative of the geographic area proposed to be served (as defined in this notice); and

(2) Would provide a majority of the solutions from the applicant's proposed pipeline services in the geographic area proposed to be served.

(d) An analysis of the needs and assets of the neighborhood, including:

(1) The size and scope of the population affected;

(2) A description of the process through which the needs analysis was produced, including a description of how parents, families, and community members were engaged in such analysis;

(3) An analysis of community assets and collaborative efforts (including programs already provided from Federal and non-Federal sources) within, or accessible to, the neighborhood, including, at a minimum, early learning opportunities, family and student supports, local businesses, LEAs, and IHEs;

(4) The steps that the eligible entity is taking at the time of the application to address the needs identified in the needs analysis; and

(5) Any barriers the eligible entity, public agencies, and other community-based organizations have faced in meeting such needs.

(e) A description of all information the entity used to identify the pipeline services to be provided, which shall not include information that is more than three years old. This description should address how the eligible entity plans to collect data on children served by each pipeline service and increase the percentage of children served over time.

(f) A description of how the pipeline services will facilitate the coordination of the following activities:

(1) Providing early learning opportunities for children, including by:

(i) Providing opportunities for families to acquire the skills to promote early learning and child development; and

(ii) Ensuring appropriate diagnostic assessments and referrals for children with disabilities and children aged 3 through 9 experiencing developmental delays, consistent with the Individuals with Disabilities Education Act (IDEA) (20 U.S.C. 1400 et seq.), where applicable.

(2) Supporting, enhancing, operating, or expanding rigorous, comprehensive, effective educational improvements, which may include high-quality academic programs, expanded learning time, and programs and activities to prepare students for postsecondary education admissions and success.

(3) Supporting partnerships between schools and other community resources with an integrated focus on academics and other social, health, and familial supports.

(4) Providing social, health, nutrition, and mental health services and supports, for children, family members, and community members, which may include services provided within the school building.

(5) Supporting evidence-based programs that assist students through school transitions, which may include expanding access to postsecondary education courses and postsecondary education enrollment aid or guidance, and other supports for at-risk youth.

(g) Each applicant must submit, as part of its application, a preliminary memorandum of understanding, signed by each organization or agency with which it would partner in implementing the proposed PN program. Within the preliminary memorandum of understanding, all applicants must detail each partner's financial, programmatic, and long-term commitment with respect to the strategies described in the application. Under section 4624(c) of the ESEA, applicants that are nonprofit entities must submit a preliminary memorandum of understanding signed by each partner entity or agency, which must include at least one of the following: A high-need LEA; an IHE, as defined in section 102 of the HEA (20 U.S.C. 1002); the office of a chief elected official of a unit of local government; or an Indian Tribe or Tribal organization as defined in section 4 of the Indian Self-Determination and Education Assistance Act (25 U.S.C. 5304).¹⁰

¹⁰ The original citation in ESEA section 4622 was to 25 U.S.C. 450b, but 25 U.S.C. 450b was editorially reclassified as 25 U.S.C. 5304. We use the updated citation throughout this notice.

(h) A description of the process used to develop the application, including the involvement of family and community members. In addressing this paragraph, an applicant must provide a description of the process used to develop the application, which must include the involvement of an LEA(s) (including but not limited to the LEA's or LEAs' involvement in the creation and planning of the application and a signed Memorandum of Understanding) and at least one public elementary or secondary school that is located within the identified geographic area that the grant will serve.

(i) A description of the strategies that will be used to provide pipeline services (including a description of which programs and services will be provided to children, family members, community members, and children within the neighborhood) to support the purpose of the PN program.

(j) An explanation of the process the eligible entity will use to establish and maintain family and community engagement, including:

(1) Involving representative participation by the members of such neighborhood in the planning and implementation of the activities of each grant awarded;

(2) The provision of strategies and practices to assist family and community members in actively supporting student achievement and child development;

(3) Providing services for students, families, and communities within the school building; and

(4) Collaboration with IHEs, workforce development centers, and employers to align expectations and programming with postsecondary education and workforce readiness.

(k) Measurable annual objectives and outcomes for the grant, in accordance with the metrics described in the Promise Neighborhoods Performance Indicators for each year of the grant.

(l) An explanation of how the eligible entity will continuously evaluate and improve the continuum of high-quality pipeline services to provide for continuous program improvement and potential expansion.

(m) In addressing the application requirements in paragraphs (d), (e), and (f), an applicant must clearly demonstrate needs, including a segmentation analysis, gaps in services, and any available data from within the last 3 years to demonstrate needs. The applicant must also describe proposed activities that address these needs and the extent to which these activities are evidence-based (as defined in this notice). The applicant must also describe its experience, or its partner organizations' experience, if applicable, providing these activities, including any data demonstrating effectiveness.

Program Requirements: Each applicant that receives a grant award for the PN competition must use the grant funds to implement the pipeline services and continuously evaluate the success of the program and improve the program based on data and outcomes. Section 4624(d) of the ESEA. Applicants may use not less than 50 percent of grant funds in year one, and not less than 25 percent of grant funds in year two, for planning activities to develop and implement pipeline services.

Each eligible entity that receives a grant under this program must prepare and submit an annual report to the Secretary that includes the following: (1) information about the number and percentage of children in the neighborhood who are served by the grant program, including a description of the number and percentage of children accessing each support service offered as part of the pipeline of services; and (2) information relating to the metrics established under the Promise Neighborhood Performance Indicators.

In addition, grantees must make these data publicly available, including through electronic means. To the extent practicable, and as required by law, such information must be provided in a form and language accessible to parents and families in the neighborhood served under the PN grant. Data on academic indicators pertinent to the PN program already will be, in most cases, part of statewide longitudinal data systems.

7. Selection Criteria: The selection criteria are from 34 CFR 75.210, the PN NFP, and the notice of final priorities, requirements, definitions, and selection criteria published in the Federal Register on July 6, 2011 (76 FR 39589) (2011 PN NFP). Each selection criterion includes the factors that reviewers will consider in determining the extent to which an applicant meets the criterion. The maximum score for each criterion is included in parentheses following the title of the specific selection criterion. Points awarded under these selection criteria are in addition to any points an applicant earned under the competitive preference priorities in this notice. The maximum score that an application may receive on the selection criteria is 100 points.

The selection criteria are as follows:

(a) Need for project (up to 20 points).

In determining the need for the proposed project, the Secretary considers the following factors:

(1) The magnitude or severity of the problem to be addressed by the proposed project (34 CFR 75.210).

(2) The extent to which specific gaps or weaknesses in services, infrastructure, or opportunities have been identified and will be addressed by the proposed project, including the nature and magnitude of those gaps or weaknesses (34 CFR 75.210).

(b) Quality of project services (up to 30 points).

The Secretary considers the quality of the services to be provided by the proposed project. In determining the quality of the project services, the Secretary considers:

(1) The quality and sufficiency of strategies for ensuring equal access and treatment for eligible project participants who are members of groups that have traditionally been underrepresented based on race, color, national origin, gender, age, or disability (34 CFR 75.210).

(2) The extent to which the proposed project involves the development or demonstration of promising new strategies that build on, or are alternatives to, existing strategies (34 CFR 75.210).

(3) The likelihood that the proposed project will result in system change or improvement (34 CFR 75.210).

(4) The extent to which the services to be provided by the proposed project involve the collaboration of appropriate partners for maximizing the effectiveness of project services (34 CFR 75.210).

(c) Quality of project design (up to 20 points).

In determining the quality of project design for the proposed project, the Secretary considers the following factors:

(1) The extent to which the applicant describes a plan to create a complete pipeline of services, without time and resource gaps, that is designed to prepare all children in the neighborhood to attain a high-quality education and successfully transition to college and a career (PN NFP).

(2) The potential and planning for the incorporation of project purposes, activities, or benefits into the ongoing work of the applicant beyond the end of the grant (34 CFR 75.210).

(3) The extent to which the proposed project will integrate with or build on similar or related efforts to improve relevant outcomes (as defined in 34 CFR 77.1€), using existing funding streams from other programs or policies supported by community, State, and Federal resources (34 CFR 75.210).

(d) Quality of the management plan (up to 15 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks (34 CFR 75.210).

(2) The adequacy of procedures for ensuring feedback and continuous improvement in the operation of the proposed project (34 CFR 75.210).

(3) The experience, lessons learned, and proposal to build capacity of the applicant's management team and project director in collecting, analyzing, and using data for decision making, learning, continuous improvement, and accountability, including whether the applicant has a plan to build, adapt, or expand a longitudinal data system that integrates student-level data from multiple sources in order to measure progress while abiding by privacy laws and requirements (2011 PN NFP).

(e) Adequacy of resources (up to 15 points).

The Secretary considers the adequacy of resources for the proposed project. In determining the adequacy of resources for the proposed project, the Secretary considers:

(1) The potential for continued support of the project after Federal funding ends, including, as appropriate, the demonstrated commitment of appropriate entities to such support (34 CFR 75.210).

(2) The extent to which the applicant identifies existing neighborhood assets and programs supported by Federal, State, local, and private funds that will be used to implement a continuum of solutions (2011 PN NFP).

(3) The applicant's capacity (e.g., in terms of qualified personnel, financial resources, or management capacity) to further develop and bring to scale the proposed process, product, strategy, or practice, or to work with others to ensure that the proposed process, product, strategy, or practice can be further developed and brought to scale, based on the findings of the proposed project (34 CFR 75.210).

8. Performance Measures: The Secretary has established performance indicators (i.e., performance measures) for the PN program under section 4624(h) of the ESEA and 34 CFR 75.110. Performance indicators established by the Secretary include improved academic and development outcomes for children, including indicators of school readiness, high school graduation, postsecondary education and career readiness, and other academic and developmental outcomes. These outcomes promote data-driven decision-making and access to a community-based continuum of high-quality services for children living in the most distressed communities of the United States, beginning at birth. All grantees will be required to submit data annually against these performance measures as part of their annual performance report.

The Secretary establishes, in Table 1, the following performance indicators under section 4624(h) of the ESEA and 34 CFR 75.110:

Table 1—Promise Neighborhoods Performance Indicators
Result | Indicator | Recommended source
1. Children enter kindergarten ready to succeed in school | 1. Number and percentage of children in kindergarten who demonstrate at the beginning of the program or school year age-appropriate functioning across multiple domains of early learning as determined using developmentally appropriate early learning measures | Administrative data from LEA.
2. Students are proficient in core academic subjects | 2.1 Number and percentage of students at or above grade level according to State mathematics assessments in at least the grades required by the ESEA (third through eighth grades and once in high school)
| 2.2 Number and percentage of students at or above grade level according to State English language arts assessments in at least the grades required by the ESEA
3. Students successfully transition from middle school grades to high school | 3.1 Attendance rate of students in sixth, seventh, eighth, and ninth grade as defined by average daily attendance
| 3.2 Chronic absenteeism rate of students in sixth, seventh, eighth, and ninth grades
4. Youth graduate from high school | 4. 4-year adjusted cohort graduation rate
5. High school graduates obtain a postsecondary degree, certification or credential | 5.1 Number and percentage of Promise Neighborhood students who enroll in a 2-year or 4-year college or university after graduation | Third party data such as the National Student Clearinghouse.
| 5.2 Number and percent of Promise Neighborhood students who graduate from a 2-year or 4-year college or university or vocational certification completion
6. Students are healthy | 6. Number and percentage of children who consume five or more servings of fruits and vegetables daily | Neighborhood survey, school climate survey or other reliable data source for population level data collection.
7. Students feel safe at school and in their community | 7. Number and percentage of children who feel safe at school and traveling to and from school as measured by a school climate survey
8. Students live in stable communities | 8. Student mobility rate (as defined in the notice)
9. Families and community members support learning in PN schools | 9.1 Number and percentage of parents or family members that read to or encourage their children to read three or more times a week or reported their child reads to themselves three or more times a week (birth-eighth grade)
| 9.2 Number and percentage of parents/family members who report talking about the importance of college and career (ninth-12th grade)
10. Students have access to 21st century learning tools | 10. Number and percentage of students who have school and home access to broadband internet and a connected computing device

Note: The indicators in Table 1 are not intended to limit an applicant from collecting and using data from additional Family and Community Support indicators proposed to the Department. Applicants are strongly encouraged, but not required, to propose additional performance indicators aligned to the specific pipeline services proposed in their application.

Please see the Program Requirements section of this notice for the reporting requirements associated with the PN program performance indicators.

9. Definitions: For FY 2024 and any subsequent year in which we make awards from the list of unfunded applications from this competition, the following definitions apply. The definitions for “eligible entity” and “pipeline services” are from section 4622 of the ESEA. The definitions of “graduation rate,” “Indian Tribe,” “indicators of need,” “regular high-school diploma,” “representative of the geographic area to be served,” “segmentation analysis,” “student achievement,” and “student mobility rate” are from the PN NFP. The definitions of “children or students with disabilities,” “community college,” “disconnected youth,” “early learning,” “English learner,” and “underserved student” are from the Supplemental Priorities. The remaining definitions are from 34 CFR 77.1.

Children or students with disabilities means children with disabilities as defined in section 602(3) of the IDEA (20 U.S.C. 1401(3)) and 34 CFR 300.8, or students with disabilities, as defined in the Rehabilitation Act of 1973 (29 U.S.C. 705(37), 705(202)(B)).

Community college means “junior or community college” as defined in section 312(f) of the HEA.

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or LEAs (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Eligible entity means (1) an IHE, as defined in section 102 of the HEA (20 U.S.C. 1002); (2) an Indian tribe or tribal organization, as defined in section 4 of the Indian Self-Determination and Education Assistance Act (25 U.S.C. 5304); or (3) one or more nonprofit entities working in formal partnership with not less than 1 of the following entities:

(i) A high-need LEA.

(ii) An IHE, as defined in section 102 of the HEA (20 U.S.C. 1002).

(iii) The office of a chief elected official of a unit of local government.

(iv) An Indian tribe or tribal organization, as defined under section 4 of the Indian Self-Determination and Education Assistance Act (25 U.S.C. 5304).

English learner means an individual who is an English learner as defined in section 8101(20) of the ESEA, or an individual who is an English language learner as defined in section 203(7) of the Workforce Innovation and Opportunity Act.

Evidence-based means the proposed project component is supported by one or more of strong evidence, moderate evidence, or promising evidence.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Graduation rate means the four-year adjusted cohort graduation rate or extended-year adjusted cohort graduation rate as defined in section 8101(25) and (23) of the ESEA.

Indian Tribe means an Indian Tribe or Tribal organization as defined in section 4 of the Indian Self-determination Act (25 U.S.C. 5304(e)).

Indicators of need means currently available data that describe—

(a) Education need, which means—

(1) All or a portion of the neighborhood includes or is within the attendance zone of a low-performing school that is a high school, especially one in which the graduation rate (as defined in this notice) is less than 60 percent or a school that can be characterized as low-performing based on another proxy indicator, such as students' on-time progression from grade to grade; and

(2) Other indicators, such as significant achievement gaps between subgroups of students (as identified in section 1111(b)(2)(B)(xi) of the ESEA), within a school or LEA, high teacher and principal turnover, or high student absenteeism; and

(b) Family and community support need, which means—

(1) Percentages of children with preventable chronic health conditions (e.g., asthma, poor nutrition, dental problems, obesity) or avoidable developmental delays;

(2) Immunization rates;

(3) Rates of crime, including violent crime;

(4) Student mobility rates;

(5) Teenage birth rates;

(6) Percentage of children in single parent or no-parent families;

(7) Rates of vacant or substandard homes, including distressed public and assisted housing; or

(8) Percentage of the residents living at or below the Federal poverty threshold.

Moderate evidence means that there is evidence of effectiveness of a key project component in improving a relevant outcome for a sample that overlaps with the populations or settings proposed to receive that component, based on a relevant finding from one of the following:

(i) A practice guide prepared by the WWC using version 2.1, 3.0, 4,0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy this requirement.

Pipeline services means a continuum of coordinated supports, services, and opportunities for children from birth through entry into and success in postsecondary education, and career attainment. Such services shall include, at a minimum, strategies to address through services or programs (including integrated student supports) the following:

(a) High-quality early childhood education programs.

(b) High-quality school and out-of-school-time programs and strategies.

(c) Support for a child's transition to elementary school, from elementary school to middle school, from middle school to high school, and from high school into and through postsecondary education and into the workforce, including any comprehensive readiness assessment determined necessary.

(d) Family and community engagement and supports, which may include engaging or supporting families at school or at home.

(e) Activities that support postsecondary and work-force readiness, which may include job training, internship opportunities, and career counseling.

(f) Community-based support for students who have attended the schools in the area served by the pipeline, or students who are members of the community, facilitating their continued connection to the community and success in postsecondary education and the workforce.

(g) Social, health, nutrition, and mental health services and supports.

(h) Juvenile crime prevention and rehabilitation programs.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Regular high school diploma has the meaning set out in section 8101(43) of the ESEA.

Relevant outcome means the student outcome(s) or other outcome(s) the key project component is designed to improve, consistent with the specific goals of the program.

Representative of the geographic area proposed to be served means that residents of the geographic area proposed to be served have an active role in decision-making and that at least one-third of the applicant's governing board or advisory board is made up of—

(a) Residents who live in the geographic area proposed to be served, which may include residents who are representative of the ethnic and racial composition of the neighborhood's residents and the languages they speak;

(b) Residents of the city or county in which the neighborhood is located but who live outside the geographic area proposed to be served, and who earn less than 80 percent of the area's median income as published by the U.S. Department of Housing and Urban Development;

(c) Public officials who serve the geographic area proposed to be served (although not more than one-half of the governing board or advisory board may be made up of public officials); or

(d) Some combination of individuals from the three groups listed in paragraphs (a), (b), and (c) of this definition.

Segmentation analysis means the process of grouping and analyzing data from children and families in the geographic area proposed to be served according to indicators of need or other relevant indicators to allow grantees to differentiate and more effectively target interventions based on the needs of different populations in the geographic area.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy this requirement.

Student achievement means—

(a) For tested grades and subjects—

(1) A student's score on the State's assessments under the ESEA; and

(2) As appropriate, other measures of student learning, such as those described in paragraph (b) of this definition, provided they are rigorous and comparable across classrooms and programs; and

(b) For non-tested grades and subjects, alternative measures of student learning and performance, such as student scores on pre-tests and end-of-course tests; student performance on English language proficiency assessments; and other measures of student achievement that are rigorous and comparable across classrooms.

Student mobility rate is calculated by dividing the total number of new student entries and withdrawals at a school, from the day after the first official enrollment number is collected through the end of the academic year, by the first official enrollment number of the academic year.

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A migrant student.

(h) A student experiencing homelessness or housing insecurity.

(i) A lesbian, gay, bisexual, transgender, queer or questioning, or intersex (LGBTQI+) student.

(j) A student who is in foster care.

(k) A student without documentation of immigration status.

(l) A pregnant, parenting, or caregiving student.

(m) A student impacted by the justice system, including a formerly incarcerated student.

(n) A student who is the first in their family to attend postsecondary education.

(o) A student enrolling in or seeking to enroll in postsecondary education for the first time at the age of 20 or older.

(p) A student who is working full-time while enrolled in postsecondary education.

(q) A student who is enrolled in or is seeking to enroll in postsecondary education who is eligible for a Pell Grant.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

10. Program Authority and Applicable Regulations:

Program authority: 20 U.S.C. 7273-7274.

Applicable regulations: (a) The Education Department General Administrative Regulations (EDGAR) in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The PN NFP. (e) The 2011 PN NFP. (f) The Administrative Priorities. (g) The Supplemental Priorities.

Note: The regulations in 34 CFR part 79 apply to all applicants except federally recognized Indian Tribes.

Note: The regulations in 34 CFR part 86 apply to IHEs only.

Note: The Department will implement the changes included in the OMB final rule, OMB Guidance for Federal Financial Assistance (www.federalregister.gov/documents/2024/04/22/2024-07496/guidance-for-federal-financial-assistance), formerly called, Office of Management and Budget Guidance for Grants and Agreements, which amends 2 CFR part 200, on October 1, 2024. When preparing an application, grant applicants who anticipate a performance period start date on or after October 1, 2024, should follow the requirements in the updated 2 CFR part 200. For more information about these updated regulations please visit: https://www2.ed.gov/policy/fund/guid/uniform-guidance/index.html.

Note: Projects will be awarded and must be operated in a manner consistent with the nondiscrimination requirements contained in Federal civil rights laws.

II. Supplemental Requirements

1. a. Cost Sharing or Matching: Under section 4623(d)(1)(A) of the ESEA, to be eligible for a grant under this competition, an applicant must demonstrate a commitment from one or more entities in the public or private sector, which may include Federal, State, and local public agencies, philanthropic organizations, and private sources, to provide matching funds.

An applicant proposing a project that meets Absolute Priority 1—Non-Rural and Non-Tribal Communities must obtain matching funds or in-kind donations equal to at least 100 percent of its grant award. Section 4623(d)(1)(A) of the ESEA.

An applicant proposing a project that meets Absolute Priority 2—Rural Applicants or Absolute Priority 3—Tribal Communities must obtain matching funds or in-kind donations equal to at least 50 percent of its grant award. Section 4623(d)(1)(C) of the ESEA.

Eligible sources of matching funds include sources of funds used to pay for solutions within the pipeline services, initiatives supported by the LEA, or public health services for children in the neighborhood. At least 10 percent of an applicant's total match must be cash or in-kind contributions from the private sector, which may include philanthropic organizations or private sources. Section 4623(d)(1)(B) of the ESEA.

Applicants must demonstrate a commitment of matching funds in the application. Applicants must specify the source of the funds or contributions and, in the case of a third-party in-kind contribution, describe how the value was determined for the donated or contributed goods or service. Section 4623(d)(1)(B) of the ESEA. Applicants must demonstrate the match commitment by including letters in their applications explaining the type and quantity of the match commitment with original signatures from the executives of organizations or agencies providing the match.

The Secretary may consider decreasing the matching requirement in the most exceptional circumstances, on a case-by-case basis. Section 4623(d)(1)(C) of the ESEA. An applicant that is unable to meet the matching requirement must include in its application a request to the Secretary to reduce the matching requirement, including the amount of the requested reduction, the total remaining match contribution, and a statement of the basis for the request. The Secretary will grant this request only if an applicant demonstrates a significant financial hardship. Section 4623(d)(1)(D) of the ESEA.

An applicant should review the Department's cost-sharing and cost matching regulations, which include specific limitations, in 2 CFR 200.306, and the cost principles regarding donations, capital assets, depreciations, and allowable costs, in subpart E of 2 CFR part 200.

b. Indirect Cost Rate Information: This program uses an unrestricted indirect cost rate. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E.

2. Subgrantees: The grantee may award subgrants to entities it has identified in an approved application or that it selects through a competition under procedures established by the grantee.

III. Application and Submission Information

1. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

2. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

3. Funding Restrictions: Applicants that operate a school in a neighborhood served by a PN grant must provide such school with the operational flexibility, including autonomy over staff, time, and budget, needed to effectively carry out the activities described in this notice. Grantees cannot, in carrying out activities to improve early childhood education programs, use PN funds to carry out the following activities: (1) Assessments that provide rewards or sanctions for individual children or teachers; (2) A single assessment that is used as the primary or sole method for assessing program effectiveness; or (3) Evaluation of children, other than for the purposes of improving instruction, classroom environment, professional development, or parent and family engagement, or program improvement.

We reference additional regulations outlining funding restrictions in the Applicable Regulations section of this notice.

4. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs.

5. Submission of Proprietary Information: Given the types of projects that may be proposed in applications for the PN competition, your application may include business information that you consider proprietary. In 34 CFR 5.11 we define “business information” and describe the process we use in determining whether any of that information is proprietary and, thus, protected from disclosure under Exemption 4 of the Freedom of Information Act (5 U.S.C. 552, as amended). Because we plan to make successful applications available to the public, you may wish to request confidentiality of business information.

Consistent with Executive Order 12600 (Predisclosure Notification Procedures for Confidential Commercial Information), please designate in your application any information that you believe is exempt from disclosure under Exemption 4. In the appropriate Appendix section of your application, under ”Other Attachments Form,” please list the page number or numbers on which we can find this information. For additional information please see 34 CFR 5.11(c).

6. Intergovernmental Review: This program is subject to Executive Order 12372 and the regulations in 34 CFR part 79. Information about Intergovernmental Review of Federal Programs under Executive Order 12372 is in the application package for this competition.

IV. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

2. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

4. In General: In accordance with the Guidance for Federal Financial Assistance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

V. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

Also, in making continuation awards for years four and five, the Department will consider whether the grantee is achieving the intended goals and outcomes of the grant and shows substantial improvement against baseline data on performance indicators and performance measures.

VI. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Adam Schott,
Principal Deputy Assistant Secretary, Delegated the Authority to Perform the Functions and Duties of the Assistant Secretary, Office of Elementary and Secondary Education.

[FR Doc. 2024-14054 Filed 6-26-24; 8:45 am]

BILLING CODE 4000-01-P